DEPARTMENT OF VETERANS AFFAIRS

[OMB Control No. 2900-0045]

Agency Information Collection: VA Request for Determination of Reasonable Value

AGENCY: Veterans Benefits Administration, Department of Veterans Affairs.

ACTION: Notice.

SUMMARY: In compliance with the Paperwork Reduction Act (PRA) of 1995, this notice announces that the Veterans Benefits Administration (VBA), Department of Veterans Affairs, will submit the collection of information abstracted below to the Office of Management and Budget (OMB) for review and comment. The PRA submission describes the nature of the information collection and its expected cost and burden; it includes the actual data collection instrument.

DATES: Written comments and recommendations for the proposed information collection should be sent within 30 days of publication of this notice to www.reginfo.gov/public/do/PRAMain. Find this particular information collection by selecting “Currently under 30-day Review—Open for Public Comments” or by using the search function. Refer to “OMB Control No. 2900-0045.

FOR FURTHER INFORMATION CONTACT: Danny S. Green, (202) 421-1354 or email Danny.Green2@va.gov. Please refer to “OMB Control No. 2900-0041” in any correspondence.

SUPPLEMENTARY INFORMATION:

Authority: 44 U.S.C. 3501-3521.

Title: VA Request for Determination of Reasonable Value (VA Forms 26-1805, and 26-1805-1).

OMB Control Number: 2900-0045.

Type of Review: Extension of a currently approved collection.

Abstract: WebLGY automatically generates an appraisal request on VA Form 26-1805-1 for the requester. The requester, usually a lender or agent, following the prompts in the computer system inputs the required information. Upon completion, the requester enters “submit” and VA Form 26-1805-1 is generated which contains the case number, appraiser assignment, and property information which is automatically emailed to the appraiser and requester.

An agency may not conduct or sponsor, and a person is not required to respond to a collection of information unless it displays a currently valid OMB control number. The Federal Register Notice with a 60-day comment period soliciting comments on this collection of information was published on March 6, 2020, Vol. 85, No. 45, pages 13238-13239.

Affected Public: Individuals or households.

Estimated Annual Burden: 51,400 hours.

Estimated Average Burden per Respondent: 12 minutes.

Frequency of Response: One-time.

Estimated Number of Respondents: 257,000.

By direction of the Secretary.
Danny S. Green,
VA PRA Clearance Officer, Office of Quality, Performance and Risk, Department of Veterans Affairs.

[FR Doc. 2020-10852 Filed 5-19-20; 8:45 am]

BILLING CODE 8320-01-P